DEPARTMENT OF COMMERCE

National Oceanic and Atmospheric Administration

Agency Information Collection Activities; Submission to the Office of Management and Budget (OMB) for Review and Approval; Comment Request; Florida Fishing and Boating Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 6, 2022 during a 60-day comment period. This notice allows for an additional 30 days for public comments.

Agency: National Oceanic and Atmospheric Administration (NOAA), Commerce.

Title: Florida Fishing and Boating Survey.

OMB Control Number: 0648-0769.

Form Number(s): None.

Type of Request: Regular submission (revision and extension of a current information collection).

Number of Respondents: 3,120.

Average Hours per Response: 0.05 hours (3 minutes).

Total Annual Burden Hours: 156.

Needs and Uses: This request is for an extension and revision of a currently approved information collection and is sponsored by NOAA's Southeast Fisheries Science Center (SEFSC).

The objective of the data collection effort under OMB Control Number 0648-0769 is to understand how anglers and boaters respond to changes in trip costs and/or fishing regulations in Florida (both in waters of the Gulf of Mexico and South Atlantic Ocean). This will improve the analysis of the economic effects of proposed changes in fishing regulations and changes in economic factors that affect the cost of fishing and boating such as fuel prices. The survey will be used to develop predictive models that forecast how fishing and boating effort changes when either trip costs change or when fishing regulations (season length or bag limits) change. The survey will ask about the number of trips anglers take under current costs and regulations and anticipated number of trips when costs and/or regulations change.

The population to be surveyed consists of anglers and boat owners with a license to fish in the Gulf of Mexico or South Atlantic from Florida. The sample will be drawn from a list of licensed Florida anglers and registered Florida boat owners. Anglers/boat owners will be emailed an invitation to the online survey that directs them to a website to complete the survey. Changes proposed to the collection include the addition of respondents on the Atlantic Coast of Florida, adapting the survey to ask about all federally managed fish in the Atlantic and Gulf of Mexico, and removing the mail component and financial incentives of the survey.

Affected Public: Individuals or households.

Frequency: Twice per calendar year.

Respondent's Obligation: Voluntary.

Legal Authority: Magnuson-Stevens Fishery Conservation and Management Act as reauthorized in 2007 (16 U.S.C. 1801 et. seq.)

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0769.

Sheleen Dumas,
Department PRA Clearance Officer, Office of the Chief Information Officer, Commerce Department.

[FR Doc. 2022-19205 Filed 9-2-22; 8:45 am]

BILLING CODE 3510-22-P